DEPARTMENT OF TRANSPORTATION

Federal Aviation Administration

Notice of Passenger Facility Charge (PFC) Approvals and Disapprovals

AGENCY: Federal Aviation Administration (FAA), DOT.

ACTION: Monthly Notice of PFC Approvals and Disapprovals. In June 2009, there were seven applications approved. This notice also includes information on nine applications, one approved in November 2006, two approved in February 2008, one approved in June 2008, one approved in September 2008, two approved in October 2008, one approved in November 2008, and one approved in May 2009, inadvertently left off the November 2006, February 2008, June 2008, September 2008, October 2008, November 2008, and May 2009 notices, respectively. Additionally, 16 approved amendments to previously approved applications are listed.

SUMMARY: The FAA publishes a monthly notice, as appropriate, of PFC approvals and disapprovals under the Provisions of the Aviation Safety and Capacity Expansion Act of 1990 (Title IX of the Omnibus Budget Reconciliation Act of 1990) (Public Law 101-508) and Part 158 of the Federal Aviation Regulations (14 CFR Part 158). This notice is published pursuant to paragraph d of § 158.29.

PFC Applications Approved

Public Agency: Charlottesville-Albemarle Airport Authority, Charlottesville, Virginia.

Application Number: 07-08-C-00-CHO.

Application Type: Impose and use a PFC.

PFC Level: $4.50.

Total PFC Revenue Approved in This Decision: $426,400.

Earliest Charge Effective Date: July 1, 2009.

Estimated Charge Expiration Date: January 1, 2010.

Class of Air Carriers Not Required to Collect PFC's:

All air taxi/commercial operators filing or requested to file FAA Form 1800-31.

Determination: Approved. Based on information submitted in the public agency's application, the FAA has determined that the proposed class accounts for less than 1 percent of the total annual enplanements at Charlottesville-Albemarle Airport.

Brief Description of Projects Approved for Collection and Use:

Acquire interactive employee training system.

Seal coat general aviation apron.

PFC project administration fees.

Brief Description of Projects Approved for Collection:

Land acquisition—runway 21 runway protection zone.

Construct snow removal equipment building.

Construct access road—west side.

Decision Date: November 20, 2006.

For Further Information Contact: Terry Page, Washington Airports District Office, (703) 661-1357.

Public Agency: Maryland Department of Transportation and Maryland Aviation Administration, Baltimore, Maryland.

Application Number: 08-07-C-00-BWI.

Application Type: Impose and use a PFC.

PFC Level: $4.50.

Total PFC Revenue Approved in This Decision: $16,298,000.

Earliest Charge Effective Date: January 1, 2017.

Estimated Charge Expiration Date: March 1, 2017.

Class of Air Carriers Not Required to Collect PFC's:

Nonscheduled/on-demand air carriers filing FAA Form 1800-31.

Determination: Approved. Based on information submitted in the public agency's application, the FAA has determined that the proposed class accounts for less than 1 percent of the total annual enplanements at Baltimore-Washington International Thurgood Marshall Airport.

Brief Description of Project Approved for Collection and Use at a $3.00 PFC Level: Terminal improvement program.

Brief Description of Project Approved for Collection at a $4.50 PFC Level: Runway safety area (supporting design for environmental assessment).

Decision Date: February 13, 2008.

For Further Information Contact: Terry Page, Washington Airports District Office, (703) 661-1357.

Public Agency: City of Manchester, New Hampshire.

Application Number: 08-12-U-00-MHT.

Application Type: Use PFC revenue.

PFC Level: $3.00.

Total PFC Revenue Approved for Use in this Decision: $11,401,727.

Charge Effective Date: November 1, 2018.

Estimated Charge Expiration Date: October 1, 2020.

Class of Air Carriers Not Required to Collect PFC's: No change from previous decision.

Brief Description of Projects Approved for Use:

Glycol collection system.

Extension of runway 24 safety area.

Decision Date: February 29, 2008.

For Further Information Contact: Priscilla Scott, New England Region Airports Division, (781) 238-7614.

Public Agency: Louisville Regional Airport Authority, Louisville, Kentucky.

Application Number: 08-05-C-00-SDF.

Application Type: Impose and use a PFC.

PFC Level: $4.50.

Total PFC Revenue Approved in This Decision: $900,000.

Earliest Charge Effective Date: June 1, 2018.

Estimated Charge Expiration Date: July 1, 2018.

Class of Air Carriers Not Required to Collect PFC's:

All air taxi/commercial operators filing FAA Form 1800-31.

Determination: Approved. Based on information submitted in the public agency's application, the FAA has determined that the proposed class accounts for less than 1 percent of the total annual enplanements at Louisville International Airport.

Brief Description of Projects Approved for Collection and Use:

Purchase aircraft rescue and firefighting truck with 1,500 gallon unit.

Purchase interactive employee security identification display area and driver training system.

Decision Date: September 29, 2008.

For Further Information Contact: Tommy DuPree, Memphis Airports District Office, (901) 322-8185.

Public Agency: Helena Regional Airport Authority, Helena, Montana.

Application Number: 08-04-C-00-HLN.

Application Type: Impose and use a PFC.

PFC Level: $4.50.

Total PFC Revenue Approved in This Decision: $893,513.

Earliest Charge Effective Date: October 1, 2012.

Estimated Charge Expiration Date: February 1, 2015.

Class of Air Carriers not Required to Collect PFC'S:

On-demand, non-scheduled air taxi/commercial operators.

Determination: Approved. Based on information submitted in the public agency's application, the FAA has determined that the proposed class accounts for less than 1 percent of the total annual enplanements at Helena Regional Airport.

Brief Description of Projects Approved for Collection and Use:

Rehabilitate taxiways A, B, C, and D pavement.

Install security gates.

Rocky Mountain emergency services training center upgrades.

Terminal security upgrade.

Aircraft rescue and firefighting/snow removal equipment building expansion.

Class 2 aircraft rescue and firefighting truck.

Airside capacity master plan.

Jetway rehabilitation.

Snow removal equipment.

Rehabilitate taxiways A, B, C, D, and E.

Air carrier ramp expansion.

1,500 gallon aircraft rescue and firefighting truck.

Satellite aircraft rescue and firefighting building expansion.

Terminal expansion.

Decision Date: October 8, 2008.

For Further Information Contact: Dave Stelling, Helena Airports District Office, (406) 449-5257.

Public Agency: County of Oneida and City of Phinelander, Wisconsin.

Application Number: 08-11-C-00-RHI.

Application Type: Impose and use a PFC.

PFC Level: $4.50.

Total PFC Revenue Approved In This Decision: $51,432.

Earliest Charge Effective Date: May 1, 2012.

Estimated Charge Expiration Date: November 1, 2012.

Class of Air Carriers Not Required to Collect PFC's:

Air taxi/commercial operators filing FAA Form 1800-31.

Determination: Approved. Based on information submitted in the public agency's application, the FAA has determined that the proposed class accounts for less than 1 percent of the total annual enplanements at Rhinelander/Oneida County Airport.

Brief Description of Projects Approved for Collection and Use:

General aviation area expansion.

Lighting design.

Replace/upgrade lighting and electrical.

PFC administration.

Decision Date: October 14, 2008.

For Further Information Contact: Nancy Nistler, Minneapolis Airports District Office, (612) 713-4353.

Public Agency: State of Connecticut Department of Transportation Bureau of Aviation and Ports, Windsor Locks, Connecticut.

Application Number: 08-17-C-00-BDL.

Application Type: Impose and use a PFC.

PFC Level: $4.50.

Total PFC Revenue Approved In This Decision: $11,260,335.

Earliest Charge Effective Date: November 1, 2016.

Estimated Charge Expiration Date: June 1, 2017.

Class of Air Carriers Not Required to Collect PFC's:

On-demand air taxi commercial operators.

Determination: Approved. Based on information submitted in the public agency's application, the FAA has determined that the proposed class accounts for less than 1 percent of the total annual enplanements at Bradley International Airport.

Brief Description of Projects Approved for Collection at a $4.50 PFC Level:

Reconstruction of runway 6/24.

Construct of taxiway W off runway 15.

Purchase of two mobile glycol collection units.

Pilot noise insulation and residential sound insulation program.

Purchase two aircraft rescue and firefighting trucks.

Design of airfield lighting vault.

Installation of electrical cogeneration engine.

Decision Date: November 3, 2008.

For Further Information Contact: Priscilla Scott, New England Region Airports Division, (781) 238-7614.

Public Agency: Dubuque Regional Airport Commission, Dubuque, Iowa.

Application Number: 09-10-U-00-DBQ.

Application Type: Use PFC revenue.

PFC Level: $4.50.

Total PFC Revenue Approved For Use In This Decision: $3,292,496.

Charge Effective Date: November 1, 2006.

Estimated Charge Expiration Date: March 1, 2008.

Class of Air Carriers Not Required to Collect PFC's: No change from previous decision.

Brief Description of Projects Approved for Use:

Terminal schematic/site design.

Runway 31 parallel and connecting taxiways.

Decision Date: May 28, 2009.

For Further Information Contact: Todd Madison, Central Region Airports Division, (816) 329-2640.

Public Agency: City of Colorado Springs, Colorado.

Application Number: 09-15-C-00-COS.

Application Type: Impose and use a PFC.

PFC Level: $3.00.

Total PFC Revenue Approved in This Decision: $848,562.

Earliest Charge Effective Date: December 1, 2013.

Estimated Charge Expiration Date: April 1, 2014.

Class of Air Carriers Not Required to Collect PFC's: None.

Brief Description of Projects Approved for Collection and Use:

Rehabilitation of taxiways G and H (phase I).

Reconstruction of runway 12/20 (design).

Update airport master plan/airport layout plan.

Fleet improvement (phase II).

Brief Description of Disapproved Projects: Interior signage.

Determination: This project is not PFC eligible as a stand-alone project.

Operations and communications center.

Determination: This project is not PFC-eligible.

Decision Date: June 2, 2009.

For Further Information Contact: Chris Schaeffer, Denver Airports District Office, (303) 342-1258.

Public Agency: City of Colorado Springs, Colorado.

Application Number: 09-16-C-00-COS.

Application Type: Impose and use a PFC.

PFC Level: $3.00.

Total PFC Revenue Approved In This Decision: $719,024.

Earliest Charge Effective Date: April 1, 2014.

Estimated Charge Expiration Date: August 1, 2014.

Class of Air Carriers Not Required to Collect PFC's: None.

Brief Description of Project Approved for Collection and Use: Jet bridge rehabilitation.

Brief Description of Disapproved Project: Terminal seating.

Determination: This project is not PFC eligible as a stand-alone project.

Decision Date: June 4, 2009.

For Further Information Contact: Chris Schaeffer, Denver Airports District Office, (303) 342-1258.

Public Agency: County of Jackson, Medford, Oregon.

Application Number: 09-10-C-00-MFR.

Application Type: Impose and use a PFC.

PFC Level: $4.50.

Total PFC Revenue Approved In This Decision: $87,302.

Earliest Charge Effective Date: August 1, 2025.

Estimated Charge Expiration Date: September 1, 2025.

Class of Air Carriers Not Required to Collect PFC's:

Air taxi/commercial operators filing FAA Form 1800-31.

Determination: Approved. Based on information submitted in the public agency's application, the FAA has determined that the proposed class accounts for less than 1 percent of the total annual enplanements at Rogue Valley International—Medford Airport.

Brief Description of Projects Approved for Collection and Use:

Aircraft rescue and firefighting truck.

Master plan.

Taxiway centerline markings.

PFC administration.

Decision Date: June 4, 2009.

For Further Information Contact: Trang Iran, Seattle Airports District Office, (425) 227-1662.

Public Agency: Cedar Rapids Airport Commission, Cedar Rapids, Iowa.

Application Number: 09-05-C-00-CID.

Application Type: Impose and use a PFC.

PFC Level: $4.50.

Total PFC Revenue Approved in This Decision: $11,883,739.

Earliest Charge Effective Date: November 1, 2009.

Estimated Charge Expiration Date: November 1, 2015.

Class of Air Carriers Not Required to Collect PFC's:

Air taxi/commercial operators filing FAA Form 1800-31.

Determination: Approved. Based on information submitted in the public agency's application, the FAA has determined that the proposed class accounts for less than 1 percent of the total annual enplanements at The Eastern Iowa Airport.

Brief Description of Projects Approved for Collection and Use:

Reconstruct runway 9/27.

Renovate terminal building—C concourse and collector doors.

Purchase snow removal equipment.

PFC application development.

PFC program administration.

Brief Description of Projects Approved for Use:

Renovate terminal building—in-line bag screening.

Construct aircraft rescue and firefighting building.

Decision Date: June 5, 2009.

For Further Information Contact: Todd Madison, Central Region Airports Division, (816) 329-2640.

Public Agency: City of Dayton, Ohio.

Application Number: 09-06-C-00-DAY.

Application Type: Impose and use a PFC.

PFC Level: $4.50.

Total PFC Revenue Approved in This Decision: $3,220,906.

Earliest Charge Effective Date: May 1,2017.

Estimated Charge Expiration Date: November 1, 2017.

Class Of Air Carriers Not Required to Collect PFC's:

Air taxi/commercial operators.

Determination: Approved. Based on information submitted in the public agency's application, the FAA has determined that the proposed class accounts for less than I percent of the total annual enplanements at Dayton International Airport (DAY).

Brief Description of Projects Approved for Collection at Day and Use at Day:

Airport water main.

Transportation Security Administration security checkpoint construction.

PFC implementation and administration.

Install wildlife fencing.

Airfield obstruction removal.

Airfield drainage system improvements.

Airfield pavement reconstruction.

Master plan and airport layout plan update.

Improve 6R/24L runway safety area.

Perimeter road projects.

Pavement management study—II.

Brief Description of Projects Approved for Collection at Day and Use at Dayton-Wright Brothers Airport:

Airport layout plan update and runway safety area study.

Install wildlife fencing.

Decision Date: June 12, 2009.

For Further Information Contact: Irene Porter, Detroit Airports District Office, (734) 229-2915.

Public Agency: City of Harlingen, Texas.

Application Number: 09-04-C-00-HRL.

Application Type: Impose and use a PFC.

PFC Level: $4.50.

Total PFC Revenue Approved in This Decision: $13,044,000.

Earliest Charge Effective Date: August 1, 2009.

Estimated Charge Expiration Date: May 1, 2012.

Class of Air Carriers Not Required to Collect PFC's: Air taxi/commercial operators filing FAA Form 1800-31.

Determination: Approved. Based on information submitted in the public agency's application, the FAA has determined that the proposed class accounts for less than 1 percent of the total annual enplanements at Valley International Airport.

Brief Description of Projects Approved for Collection and Use:

Terminal baggage handling improvements—feasibility study.

Rehabilitate lighting—runway 17L and vault.

Taxiway improvements—H, A and B.

Replace airfield fencing.

Replace aircraft rescue and firefighting building.

Purchase runway sweeper.

Upgrade terminal roadway system.

Rehabilitate terminal building.

PFC administration cost.

Rehabilitate lighting—taxiways C, H and B.

Runway improvements—runway 17R/35L.

Runway improvements—runway 13/31.

Replace aircraft rescue and firefighting trucks.

Replace aircraft rescue and firefighting equipment.

Decision Date: June 15, 2009.

For Further Information Contact: Glenn Boles, Texas Airports Development Office (817) 222-5685.

Public Agency: City of Idaho Falls, Idaho.

Application Number: 09-04-C-00-IDA.

Application Type: Impose and use a PFC.

PFC Level: $4.50.

Total PFC Revenue Approved in This Decision: $1,658,299.

Earliest Charge Effective Date: July 1, 2020.

Estimated Charge Expiration Date: October 1, 2023.

Class of Air Carriers Not Required to Collect PFC's:

Non-scheduled air taxi/commercial operators filing FAA Form 1800-31 and utilizing aircraft having a seating capacity of less than 20 passengers.

Determination: Approved. Based on information submitted in the public agency's application, the FAA has determined that the proposed class accounts for less than 1 percent of the total annual enplanements at Idaho Falls Regional Airport.

Brief Description of Projects Approved for Collection and Use:

Rehabilitate taxiway C.

Install runway 20 precision approach path indicators.

Procure snow removal equipment.

Extend terminal access road.

Rehabilitate east/west general aviation apron.

Rehabilitate runway 17/35.

Rehabilitate air carrier apron.

Design and construct southwest general aviation apron.

Acquire snow removal equipment.

Reconstruct/rehabilitate runway 2/20.

Construct snow removal equipment building.

Master plan.

PFC administration costs.

Rehabilitate and expand cargo apron.

Rehabilitate taxiway B (parallel taxiway for runway 17/35).

Rehabilitate taxiway A (parallel taxiway for runway 2/20).

Decision Date: June 16, 2009.

For Further Information Contact: Trang Tran, Seattle Airports District Office, (425) 227-1662.

Amendments to PFC Approvals
Amendment No., city, state | Amendment approved date | Original approved net PFC revenue | Amended approved net PFC revenue | Original estimated charge exp. date | Amended estimated charge exp. date
08-07-C-01-BWI, Baltimore, MD | 04/29/09 | $16,298,000 | $10,689,000 | 03/01/17 | 03/01/17
07-10-C-01-DSM, Des Moines, IA | 05/26/09 | 7,662,500 | 9,152,500 | 08/01/17 | 08/01/17
02-04-C-04-MOB, Mobile, AL | 05/28/09 | 2,837,748 | 2,854,775 | 02/01/07 | 02/01/07
05-08-C-02-DSM, Des Moines, IA | 05/28/09 | 2,250,000 | 2,647,600 | 01/01/12 | 01/01/12
05-09-C-01-DSM, Des Moines, IA | 05/28/09 | 9,673,807 | 10,456,407 | 08/01/15 | 08/01/15
08-11-C-01-DSM, Des Moines, IA | 05/28/09 | 2,525,646 | 4,681,798 | 01/01/18 | 01/01/18
05-05-C-02-GEG, Spokane, WA | 05/28/09 | 13,827,800 | 13,213,936 | 12/01/07 | 04/01/07
00-09-C-02-HSV, Huntsville, AL | 06/02/09 | 777,615 | 735,242 | 11/01/03 | 11/01/03
00-05-C-02-CLM, Port Angeles, WA | 06/17/09 | 198,350 | 208,350 | 10/01/03 | 09/01/02
04-08-C-01-RHI, Rhinelander, WI | 06/22/09 | 200,936 | 159,499 | 04/01/05 | 05/01/05
99-02-C-01-CMI, Champaign, IL | 06/23/09 | 1,418,400 | 1,136,910 | 02/01/04 | 02/01/04
07-10-C-02-DSM, Des Moines, IA | 06/23/09 | 9,152,500 | 9,175,000 | 08/01/17 | 08/01/17
00-05-C-01-YKM, Yakima, WA | 06/23/09 | 480,000 | 219,660 | 04/01/02 | 04/01/02
02-08-C-01-YKM, Yakima, WA | 06/24/09 | 55,000 | 42,805 | 09/01/02 | 03/01/01
05-09-C-01-YKM, Yakima, WA | 06/24/09 | 198,184 | 217,898 | 11/01/03 | 07/01/02
05-10-C-01-YKM, Yakima, WA | 06/24/09 | 701,494 | 712,147 | 06/01/08 | 08/01/06

Issued in Washington, DC on July 16, 2009.
Joe Hebert,
Manager, Financial Analysis and Passenger Facility Charge Branch.

[FR Doc. E9-17583 Filed 7-23-09; 8:45 am]

BILLING CODE 4910-13-M